DEPARTMENT OF DEFENSE

Office of the Secretary

Submission of OMB Review; Comment Request

ACTION: Notice.

The Department of Defense has submitted to OMB for clearance, the following proposal for collection of information under the provisions of the Paperwork Reduction Act (44 U.S.C. Chapter 35).

DATES: Consideration will be given to all comments received by December 18, 2002.

Title and OMB Number: Information Collection in Support of DoD Acquisition Process (Solicitation Phase); OMB Number 0704-0187.

Type of Request: Extension.

Number of Respondents: 161,355.

Responses Per Respondent: 12.1 (average).

Annual Responses: 1,954,238.

Average Burden Per Response: 5.05 hours.

Annual Burden Hours: 9,870,858.

Needs and Uses: This information collection requirement pertains to information that an offeror must submit to the Department of Defense in response to a request for proposals or an invitation for bids and not covered separately by another OMB clearance. DoD uses this information to evaluate offers; determine whether the offered price is fair and reasonable; and determine which offeror to select for contract award. DoD also uses this information in determining whether to provide precious metals as Government-furnished material; whether to accept alternate preservation, packaging, or packing; and whether to trade in existing personal property toward the purchase of new items. Specific DFARS requirements were discussed in 67 FR 46180, dated July 12, 2002.

Affected Public: Business or Other For-Profit; Not-For-Profit Institutions.

Frequency: On Occasion.

Respondent's Obligation: Required to Obtain or Retain Benefits.

OMB Desk Officer: Ms. Jackie Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: November 12, 2002.
Patricia L. Toppings,
Alternate OSD Federal Register, Liaison Officer, Department of Defense.

[FR Doc. 02-29100 Filed 11-5-02; 8:45 am]

BILLING CODE 5001-08-M